DEPARTMENT OF COMMERCE

National Oceanic and Atmospheric Administration

Proposed Information Collection; Comment Request; Survey To Develop Estimates of Marine-Related Economic Activity in the United States

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 16, 2019.

ADDRESSES: Direct all written comments to Adrienne Thomas, Government Information Specialist, NOAA, 151 Patton Avenue, Room 159, Asheville, NC 28801 (or via the internet at PRAcomments@doc.gov). All comments received are part of the public record. All Personally Identifiable Information (for example, name and address) voluntarily submitted by the commenter may be publicly accessible. Do not submit Confidential Business Information or otherwise sensitive or protected information.

FOR FURTHER INFORMATION CONTACT: Requests for additional information or copies of the information collection instrument and instructions should be directed to Kate Quigley, Office for Coastal Management, 2234 S Hobson Avenue, Charleston, SC 29405-2413; telephone: 843-740-1155; email: kate.quigley@noaa.gov.

SUPPLEMENTARY INFORMATION:

I. Abstract

This is a request for a new collection of information.

The objective of the survey is to collect information from manufacturers of technology used in marine related businesses. This data collection is needed for use by the National Oceanic and Atmospheric Administration (NOAA) to describe the group of businesses that comprise the marine technology sector of the economy. NOAA describes the marine economy of the United States and this information is used by decision-makers to make policy decisions. NOAA's mission is to understand and predict changes in climate, weather, oceans, and coasts, to share that knowledge and information with others, and to conserve and manage coastal and marine ecosystems and resources. NOAA is authorized to engage in estimation of the ocean economy under the Coastal Zone Management Act, 16 U.S.C. 1456c. NOAA is responsible for measuring the size of the ocean economy, including developing metrics for the number of establishments, number of employees, wages, and GDP for six economic sectors within the ocean economy: Living Resources, Marine Construction, Marine Transportation, Offshore Mineral Resources, Ship and Boat Building, and Tourism and Recreation. NOAA publishes these metrics as part of the Economics: National Ocean Watch (ENOW) dataset on the Digital Coast website.

The information collected from manufacturers of technology used in marine related businesses will include (1) total revenue, (2) the proportion of revenue derived from marine related products and services and (3) information about sales going to consumers, businesses, and government. This information will be used to better understand marine related production of products and services by different manufacturers of technology used in marine related businesses. This information will be used to inform NOAA's understanding about this group of businesses that comprise the marine technology sector as part of NOAA's estimation of the ocean economy.

II. Method of Collection

The primary data collection vehicle will be an internet-based, survey distributed to manufacturers of technology used in marine related businesses. Respondents will volunteer to participate in the survey and choose which questions to answer. Telephone and personal interview may be employed to supplement and verify survey responses. All responses will be kept confidential in accordance with government confidentiality procedures.

III. Data

OMB Control Number: 0648-XXXX.

Form Number(s): None.

Type of Review: Regular submission (new information collection).

Affected Public: Business or other for-profit organizations.

Estimated Number of Respondents: 1,000.

Estimated Time per Response: 8 minutes.

Estimated Total Annual Burden Hours: 133 hours.

Estimated Total Annual Cost to Public: $0 in reporting/recordkeeping.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-15215 Filed 7-16-19; 8:45 am]

BILLING CODE 3510-JE-P